DEPARTMENT OF ENERGY

Federal Energy Regulatory Commission

[Docket No. CP15-138-000]

Atlantic Sunrise Project; Notice of Availability of Final General Conformity Analysis

In accordance with the National Environmental Policy Act of 1969, the Clean Air Act, and the Federal Energy Regulatory Commission's (Commission or FERC) regulations, Commission staff has prepared this final General Conformity Determination (GCD) for the Atlantic Sunrise Project (Project) proposed by Transcontinental Gas Pipeline Company, LLC (Transco).

The FERC staff concludes that the Project would achieve conformity with the Pennsylvania State Implementation Plan in Lancaster County through the transfer of Emission Reduction Credits.

The Project would involve the construction and operation of about 199.4 miles of pipeline facilities and appurtenant aboveground facilities, including:

• 185.9 miles of new natural gas pipeline in Columbia, Lancaster, Lebanon, Luzerne, Northumberland, Schuylkill, Susquehanna, and Wyoming Counties, Pennsylvania (58.7 miles of 30-inch-diameter and 127.3 miles of 42-inch-diameter pipeline);

• 11.0 miles of new pipeline looping in Clinton and Lycoming Counties, Pennsylvania (2.5 miles of 36-inch-diameter and 8.5 miles of 42-inch-diameter pipeline);

• 2.5 miles of 30-inch-diameter pipeline replacements in Prince William County, Virginia;

• two new compressor stations in Columbia and Wyoming Counties, Pennsylvania (Compressor Stations 610 and 605);

• additional compression and related modifications to two existing compressor stations in Columbia and Lycoming Counties, Pennsylvania (Compressor Stations 517 and 520) and one in Howard County, Maryland (Compressor Station 190);

• other modifications would be taking place at Compressor Stations 145, 150, 155, 160, 170, 185, and 190 across Maryland, North Carolina, and Virginia;

• two new meter stations and three new regulator stations would be constructed and operated in Pennsylvania. There would also be modifications at an existing meter station, and the construction and operation of additional ancillary facilities would occur in Pennsylvania; and

• in North Carolina and South Carolina, supplemental odorization, odor detection, and/or odor masking/deodorization equipment would be installed at 56 meter stations, regulator stations, and ancillary facilities.

For additional information on the Project, the public can view the final environmental impact statement on our Web site at https://www.ferc.gov/industries/gas/enviro/eis/2016/12-30-16-FEIS.asp. The complete final General Conformity Determination, which also contains our responses to public comments on the draft General Conformity Determination, may be found on FERC's elibrary system under the above referenced Docket number.

For further information, contact Eric Tomasi by telephone at 202-502-8097 or by email at Eric.Tomasi@ferc.gov.

Dated: January 17, 2017.
Kimberly D. Bose,
Secretary.

[FR Doc. 2017-02480 Filed 2-6-17; 8:45 am]

BILLING CODE 6717-01-P